DEPARTMENT OF LABOR

Employment and Training Administration

[TA-W-57,322]

Holo-Krome Company/Danaher Tool Group, Division of Easco Hand Tools, West Hartford, CT; Amended Certification Regarding Eligibility To Apply for Worker Adjustment Assistance and Alternative Trade Adjustment Assistance

In accordance with Section 223 of the Trade Act of 1974 (19 U.S.C. 2273), and Section 246 of the Trade Act of 1974, (26 U.S.C. 2813), as amended, the Department of Labor issued a Certification of Eligibility to Apply for Worker Adjustment Assistance and Alternative Trade Adjustment Assistance on June 22, 2005, applicable to workers of Danaher Tool Group, Division of Easco Hand Tools, West Hartford, Connecticut. The notice will be published soon in the Federal Register.

At the request of the State agency, the Department reviewed the certification for workers of the subject firm. The workers are engaged in the production of hex keys.

New information shows that that some workers separated from employment at the subject firm had their wages reported under a separate unemployment insurance (UI) tax account for Holo-Krome Company/Danaher Tool Group.

Accordingly, the Department is amending the certification to properly reflect this matter.

The intent of the Department's certification is to include all workers of Danaher Tool Group, a Division of Easco Hand Tools, West Hartford, Connecticut who were adversely affected increased imports.

The amended notice applicable to TA-W-57,322 is hereby issued as follows:

“All workers of Holo-Krome Company/Danaher Tool Group, a Division of Easco Hand Tool, West Hartford, Connecticut, who became totally or partially separated from employment on or after June 7, 2004 through July 22, 2007, are eligible to apply for adjustment assistance under Section 223 of the Trade Act of 1974, and are also eligible to apply for alternative trade adjustment assistance under Section 246 of the Trade Act of 1974.”

Signed at Washington, DC, this 12th day of August, 2005.
Elliott S. Kushner,
Certifying Officer, Division of Trade Adjustment Assistance.

[FR Doc. E5-4673 Filed 8-25-05; 8:45 am]

BILLING CODE 4510-30-P